FEDERAL MINE SAFETY AND HEALTH REVIEW COMMISSION

Sunshine Act Notice

October 11, 2016.

TIME AND DATE: 10:00 a.m., Thursday, October 20, 2016.

PLACE: The Richard V. Backley Hearing Room, Room 511N, 1331 Pennsylvania Avenue NW., Washington, DC 20004 (enter from F Street entrance).

STATUS: Open.

Matters To Be Considered

The Commission will hear oral argument in the matter Secretary of Labor v. Northshore Mining Company, Docket No. LAKE 2014-219-M (Issues include whether the Judge erred in interpreting a regulation that addresses the reporting of eye injuries.)

Any person attending this oral argument who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Sarah L. Stewart,
Deputy General Counsel.

[FR Doc. 2016-24942 Filed 10-11-16; 4:15 pm]

BILLING CODE 6735-01-P